ENVIRONMENTAL PROTECTION AGENCY

[FRL-7118-5]

Proposed Agreement and Covenant Not To Sue Pursuant to the Comprehensive Environmental Response, Compensation, and Liability Act of 1980, as Amended by the Superfund Amendments and Reauthorization Act of 1986; In Re: Western Sand and Gravel Superfund Site, Located on the Boundary of Burrillville and North Smithfield, RI

AGENCY: Environmental Protection Agency.

ACTION: Notice of proposed agreement; request for public comment.

SUMMARY: In accordance with the Comprehensive Environmental Response Compensation, and Liability Act, as amended (“CERCLA”), 42 U.S.C. 9601, et. seq., notice is hereby given of a proposed Agreement and Covenant Not to Sue between the United States, on behalf of the U.S. Environmental Protection Agency (“EPA”) and Supreme Mid-Atlantic Corporation, Inc. (“Purchaser”). The Purchaser plans to acquire approximately 25 acres of property that is currently owned by Western Sand and Gravel, Inc., a portion of which was used for the disposal of liquid wastes, including hazardous substances. The Purchaser intends to use the property for the purpose of constructing and operating a truck body manufacturing plant. Under the Proposed Agreement, the United States grants a Covenant Not to Sue to the Purchaser with respect to existing contamination at the Site in exchange for the Purchaser's agreement to pay EPA $25,000. In addition, the Purchaser agrees to provide an irrevocable right of access to representatives of EPA and to comply with Institutional Controls.

For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at One Congress Street, Boston, MA 02214.

DATES: Comments must be submitted on or before January 14, 2002.

ADDRESSES: Comments should be addressed to the Regional Hearing Clerk, U.S. Environmental Protection Agency, Region I, One Congress Street, Suite 1100, Mailcode RAA, Boston, Massachusetts 02203, and should refer to: In re: Western Sand and Gravel Superfund Site, U.S. EPA Docket No. CERCLA-01-2001-0067.

FOR FURTHER INFORMATION CONTACT: A copy of the proposed Agreement and Covenant Not to Sue can be obtained from Ann Gardner, Paralegal, U.S. Environmental Protection Agency, Region I, One Congress Street, Mailcode SES, Boston, Massachusetts 02214, (617) 918-1895.

Dated: October 17, 2001.
Robert V. Varney,
Regional Administrator, Region I.

[FR Doc. 01-30912 Filed 12-13-01; 8:45 am]

BILLING CODE 6560-50-P